ENVIRONMENTAL PROTECTION AGENCY

40 CFR Parts 50, 51, 53, and 58

[EPA-HQ-OAR-2006-0735; FRL-8689-2]

RIN 2060-AN83

National Ambient Air Quality Standards for Lead

Correction

Proposed rule document E8-15579 beginning on page 39235 in the issue of Wednesday, July 9, 2008, was inadvertently published in the Rules and Regulations section. It should have appeared in the Proposed Rules section.

[FR Doc. Z8-15579 Filed 7-24-08; 8:45 am]

BILLING CODE 1505-01-D

POSTAL REGULATORY COMMISSION

39 CFR Part 3020

[Docket Nos. CP2008-8, CP2008-9 and CP2008-10; Order No. 85]

Administrative Practice and Procedure; Postal Service

Correction

In rule document E8-16904 beginning on page 43046 in the issue of Wednesday, July 23, 2008, make the following correction:

On page 43046, in the first column, under the “DATES” heading, “June 23, 2008” should read “July 23, 2008”.

[FR Doc. Z8-16904 Filed 7-24-08; 8:45 am]

BILLING CODE 1505-01-D